DEPARTMENT OF ENERGY

Federal Energy Regulatory Commission

[Project No. 2579-065]

Michigan Indiana Power Company; Notice of Availability of Final Environmental Assessment

In accordance with the National Environmental Policy Act of 1969 and the Federal Energy Regulatory Commission's (Commission) regulations, 18 CFR part 380, the Office of Energy Projects has reviewed the application for non-project use dredging for the Twin Branch Hydroelectric Project No. 2579, located on the St. Joseph River in St. Joseph County, Indiana, and has prepared a Final Environmental Assessment (FEA) for the project. The project does not occupy Federal lands.

The FEA contains the staff's analysis of the potential environmental impacts of the project and concludes that permitting the proposed dredging, with appropriate environmental protective measures, would not constitute a major Federal action that would significantly affect the quality of the human environment.

A copy of the FEA may be viewed on the Commission's website at http://www.ferc.gov using the “eLibrary” link. Enter the docket number (2579) excluding the last three digits in the docket number field to access the document. For assistance, contact FERC Online Support at FERCOnlineSupport@ferc.gov, (866) 208- 3676 (toll free), or (202) 502-8659 (TTY). You may also register online at http://www.ferc.gov/docs-filing/esubscription.asp to be notified via email of new filings and issuances related to this or other pending projects. For assistance, contact FERC Online Support.

For further information, contact Jason Krebill at (202) 502-8268 or Jason.Krebill@ferc.gov, or Michael Calloway at (202) 502-8041 or Michael.Calloway@ferc.gov.

Dated: July 12, 2023.
Debbie-Anne A. Reese,
Deputy Secretary.

[FR Doc. 2023-15179 Filed 7-17-23; 8:45 am]

BILLING CODE 6717-01-P